DEPARTMENT OF THE TREASURY

Submission for OMB Review; Comment Request

March 1, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 6, 2005, to be assured of consideration.

Internal Revenue Service (IRS)

OMB Number: 1545-1755.

Form Number: IRS Form 8878.

Type of Review: Extension.

Title: IRS e-file Signature Authorization-Application for Extension of Time to File.

Description: Form 8878 is used to allow taxpayers to enter their PIN on their electronically-filed application of extension of time to file.

Respondents: Individuals or households.

Estimated Number of Respondents/Recordkeepers: 1,000,000.

Estimated Burden Hours Respondent/Recordkeeper:

Learning about the law or the form—4 min.

Preparing the form—12 min.

Frequency of response: Annually.

Estimated Total Reporting/Recordkeeping Burden: 630,000 hours.

OMB Number: 1545-1756.

Revenue Procedure Number: Revenue Procedure 2001-56.

Type of Review: Extension.

Title: Demonstration Automobile Use.

Description: This revenue procedure provides optional simplified methods for determining the value of the use of demonstration automobiles provided to employees by automobile dealerships.

Respondents: Business or other for-profit.

Estimated Number of Recordkeepers: 20,000.

Estimated Burden Hours Recordkeeper: 5 hours.

Estimated Total Recordkeeping Burden: 100,000 hours.

OMB Number: 1545-1758.

Form Number: IRS Form 8879.

Type of Review: Extension.

Title: IRS e-file Signature Authorization.

Description: Form 8879 is used to allow taxpayers to authorize the Electronic Return Originators to enter the taxpayer's PIN on the electronically-filed tax return.

Respondents: Individuals or households.

Estimated Number of Respondents/Recordkeepers: 8,000,000.

Estimated Burden Hours Respondent/Recordkeeper:

Learning about the law or the form—12 min.

Preparing the form—15 min.

Frequency of response: Annually.

Estimated Total Reporting/Recordkeeping Burden: 6,000,000 hours.

OMB Number: 1545-1912.

Form Number: IRS Form 8893.

Type of Review: Extension.

Title: Election of Partnership Level Tax Treatment.

Description: Internal Revenue Code (IRC) section 6231(a)(1)(B)(ii) allows small partnerships to elect to be treated under the unified audit and litigation procedures. Form 8893 will allow IRS to better track these elections by providing a standardized format for this election.

Respondents: Business or other for-profit.

Estimated Number of Respondents/Recordkeepers: 100.

Estimated Burden Hours Respondent/Recordkeeper:

Recordkeeping—1 hr., 25 min.

Learning about the law or the form—24 min.

Preparing and sending the form to the IRS—25 min.

Frequency of response: Other (one time election).

Estimated Total Reporting/Recordkeeping Burden: 227 hours.

Clearance Officer: Glenn P. Kirkland, Internal Revenue Service, Room 6516, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 05-4328 Filed 3-4-05; 8:45 am]

BILLING CODE 4830-01-P